DEPARTMENT OF STATE

22 CFR Part 126

[Public Notice 8698]

RIN 1400-AD49

Amendment to the International Traffic in Arms Regulations: Changes to Authorized Officials and the UK Defense Trade Treaty Exemption; Correction of Errors in Lebanon Policy and Violations; and Adoption of Recent Amendments as Final; Correction

AGENCY: Department of State.

ACTION: Final rule, correcting amendment.

SUMMARY: The Department of State is correcting the inadvertent omission of regulatory text in a recent final rule.

DATES: This rule is effective April 17, 2014.

FOR FURTHER INFORMATION CONTACT: Mr. C. Edward Peartree, Director, Office of Defense Trade Controls Policy, U.S. Department of State, telephone (202) 663-2792, or email DDTCResponseTeam@state.gov. ATTN: Correction to 126.17.

SUPPLEMENTARY INFORMATION: On February 11, 2014, the Department amended the International Traffic in Arms Regulations (ITAR) to, among other things, update the text of the licensing exemption created pursuant to the Treaty Between the Government of the United States of America and the Government of the United Kingdom Concerning Defense Trade Cooperation, at ITAR § 126.17, so that it is a clearer representation of treaty requirements and is also consistent with ITAR § 126.16 (the Australia defense trade treaty exemption) (79 FR 8082). As a result of an error in amendatory instruction, ITAR § 126.17(o)(2)(i) through (iv) were removed. This amendment restores those paragraphs. The Department's regulatory analyses with respect to this rule were published at 79 FR 8082, and are hereby incorporated by reference.

List of Subjects in 22 CFR Part 126

Arms and munitions, Exports.

Accordingly, for the reason set forth above, Title 22, Chapter I, Subchapter M, part 126 is corrected by making the following correcting amendment:

PART 126—GENERAL POLICIES AND PROVISIONS

1. The authority citation for part 126 continues to read as follows:

Authority: Secs. 2, 38, 40, 42, and 71, Pub. L. 90-629, 90 Stat. 744 (22 U.S.C. 2752, 2778, 2780, 2791, and 2797); 22 U.S.C. 2651a; 22 U.S.C. 287c; E.O. 12918, 59 FR 28205; 3 CFR, 1994 Comp., p. 899; Sec. 1225, Pub. L. 108-375; Sec. 7089, Pub. L. 111-117; Pub. L. 111-266; Sections 7045 and 7046, Pub. L. 112-74; E.O. 13637, 78 FR 16129.

2. Section 126.17 is amended by adding paragraphs (o)(2)(i) through (iv), to read as follows:

§ 126.17 Exemption pursuant to the Defense Trade Cooperation Treaty between the United States and the United Kingdom.

* * * * *

(o) * * *

(2) * * *

(i) The information identified in § 130.10 and § 130.11 of this subchapter;

(ii) A statement regarding whether any offset agreement is final to be entered into in connection with the export and a description of any such offset agreement;

(iii) A copy of the signed contract; and

(iv) If the notification is for paragraph (o)(1)(ii) of this section, a statement of what will happen to the weapons in their inventory (for example, whether the current inventory will be sold, reassigned to another service branch, destroyed, etc.).

* * * * *

Rose E. Gottemoeller,
Under Secretary, Arms Control and International Security, Department of State.

[FR Doc. 2014-08779 Filed 4-16-14; 8:45 am]

BILLING CODE 4710-25-P